DEPARTMENT OF COMMERCE

National Oceanic and Atmospheric Administration

[I.D. 081606A]

Atlantic Highly Migratory Species; U.S. Atlantic Swordfish Fishery Public Meetings

AGENCY: National Marine Fisheries Service (NMFS), National Oceanic and Atmospheric Administration (NOAA), Commerce.

ACTION: Notice; public meetings.

SUMMARY: NMFS will hold five public meetings in September 2006 in order to obtain recommendations from swordfish fishery participants and other members of the public regarding potential management measures for the U.S. Atlantic swordfish fishery so as to fully harvest the quota allocated to the United States by the International Commission for the Conservation of Atlantic Tunas (ICCAT).

DATES: The public meetings will be held in September 2006. For specific dates and times see the SUPPLEMENTARY INFORMATION section of this document.

ADDRESSES: The public meetings will be held in Peabody, MA; Manahawkin, NJ; Manteo, NC; Panama City, FL; and Houma, LA. For specific locations see the SUPPLEMENTARY INFORMATION section of this document.

FOR FURTHER INFORMATION CONTACT: Sari Kiraly at (301) 713-2347.

SUPPLEMENTARY INFORMATION:

Background

The U.S. Atlantic swordfish fishery is managed under the Fishery Management Plan for Atlantic Tunas, Swordfish and Sharks, and regulations at 50 CFR part 635 under the authority of the Magnuson-Stevens Fishery Conservation and Management Act (16 U.S.C. 1801 et seq.) and the Atlantic Tunas Convention Act (ATCA) (16 U.S.C. 971 et seq.). Regulations issued under the authority of ATCA implement the recommendations of ICCAT. In the last several years, the U.S. Atlantic swordfish fishery has not fully harvested the available quota allocated by ICCAT. The adjusted 2005 North Atlantic swordfish total quota was 6,336.1 mt dw, which included a baseline quota of 2,937.6 and a quota carry-over of 3,398.5 mt dw. The total U.S. North Atlantic quota allocation for the 2006 fishing year is 2,937.6 mt dw, and the carry-over is yet to be determined. NMFS anticipates that the pending September 2006 stock assessment may identify the North Atlantic swordfish stock as fully rebuilt. Fishermen and others have asked NMFS to assist in revitalizing this fishery. Also, at its November 2006 meeting ICCAT will likely review swordfish management measures and quota allocations. Therefore NMFS is considering potential management measures for the U.S. Atlantic swordfish fishery that would address factors limiting the ability to catch the allocated quota, and to aid in revitalizing the fishery so that swordfish are harvested in a sustainable and economically viable manner, while bycatch is minimized to the extent practicable. At the September 2006 public meetings NMFS wishes to obtain recommendations from swordfish fishery participants and other members of the public regarding potential management measures for the fishery to fully harvest the available quota.

Special Accommodations

As listed below, NMFS will hold five public meetings to obtain recommendations from swordfish fishery participants and other members of the public regarding potential swordfish fishery management measures. These meetings will be physically accessible to people with disabilities. Requests for sign language interpretation or other auxiliary aids should be directed to Sari Kiraly at (301) 713-2347, at least 7 days prior to the meeting.

Public Meeting Dates, Times, and Locations

1. September 14, 2006, from 6-8 p.m. at the Vietnamese Community Center of Houma, 1268 Highway 182 West, Houma, LA 70364.

2. September 18, 2006, from 7-9 p.m. at the Manahawkin Holiday Inn, 151 Route 72 East, Manahawkin, NJ 08050.

3. September 19, 2006, from 7-9 p.m. at the Peabody Holiday Inn, 1 Newberry Street, Peabody, MA 01960.

4. September 20, 2006, from 7-9 p.m. at the North Carolina Aquarium on Roanoke Island, 374 Airport Road, Manteo, NC 27954.

5. September 21, 2006, from 6-8 p.m. at the NMFS Panama City Laboratory, 3500 Delwood Beach Road, Panama City, FL 32408.

Dated: August 25, 2006.
James P. Burgess,
Acting Director, Office of Sustainable Fisheries, National Marine Fisheries Service.

[FR Doc. 06-7325 Filed 8-30-06; 8:45 am]

BILLING CODE 3510-22-S